DEPARTMENT OF THE INTERIOR

Fish and Wildlife Service

[FWS-R2-ES-2008-N003; 20124-1113-0000-F5]

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before March 13, 2008.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW., Room 4102, Albuquerque, New Mexico. Please refer to the respective permit number for each application when submitting comments.

FOR FURTHER INFORMATION CONTACT: Chief, Endangered Species Division, P.O. Box 1306, Room 4102, Albuquerque, New Mexico 87103, (505) 248-6920.

SUPPLEMENTARY INFORMATION:

Public Availability Of Comments

Before including your address, phone number, e-mail address, or other personal identifying information in your comment, you should be aware that your entire comment—including your personal identifying information—may be made publicly available at any time. While you can ask us in your comment to withhold your personal identifying information from public review, we cannot guarantee that we will be able to do so.

Permit TE-797127

Applicant: U.S. Army Corps of Engineers, Albuquerque, New Mexico.

Applicant requests an amendment to an existing permit for research and recovery purposes to conduct presence/absence and collections of the following endangered plant species: Holy Ghost ipomopsis (Ipomopsis sancti-spiritus), Knowlton cactus (Pediocactus knowltonii), Kuenzler's hedgehog cactus (Echinocereus fendleri var. kuenzleri), Mancos milk-vetch (Astragalus humillimus), Sacramento prickly poppy (Argemone pleiacantha spp. pinnatisecta), Sneed pincushion cactus (Coryphantha sneedii var. sneedii), Todsen's pennyroyal (Hedeoma todsenii), Gypsum wild-buckwheat (Eriogonum gypsophilum), Lee pincushion cactus (Coryphantha sneedii var. leei), Mesa Verde cactus (Sclerocactus mesae-verdae), Pecos sunflower (Helianthus paradoxus), Sacramento Mountains thistle (Cirsium vinaceum), and Zuni fleabane (Erigeron rhizomatus) within New Mexico.

Permit TE-172278

Applicant: John Abbott, Austin, Texas.

Applicant requests a new permit for research and recovery purposes to conduct presence/absence surveys of the American burying beetle (Nicrophorus americanus) within Texas.

Permit TE-172461

Applicant: Raymond Matlack, Canyon, Texas.

Applicant requests a new permit for research and recovery purposes to conduct presence/absence surveys of the lesser long-nosed bat (Leptonycteris curasoae yerbabuenae) within Arizona.

Permit TE-028362

Applicant: Bureau of Land Management—Arizona Strip, St. George, Utah.

Applicant requests an amendment to a previous permit for research and recovery purposes to conduct recovery activities for the desert tortoise (Gopherus agassizii) within Mohave and Coconino counties, Arizona.

Permit TE-069184

Applicant: Turner Endangered Species Fund, Bozeman, Montana.

Applicant requests an amendment to a previous permit to conduct presence/absence surveys for research and recovery purposes for northern aplomado falcon (Falco fermoralis septentrionalis) within New Mexico.

Authority: 16 U.S.C. 1531, et seq.

Dated: January 17, 2008.
Christopher T. Jones,
Acting Regional Director, Southwest Region, Fish and Wildlife Service.

[FR Doc. E8-2549 Filed 2-11-08; 8:45 am]

BILLING CODE 4310-55-P